DEPARTMENT OF ENERGY

Office of Science; Notice of Renewal of the Fusion Energy Sciences Advisory Committee

Pursuant to section 14(a)(2)(A) of the Federal Advisory Committee Act and in accordance with title 41 of the Code of Federal Regulations, section 102-3.65, and following consultation with the Committee Management Secretariat, General Services Administration, notice is hereby given that the Fusion Energy Sciences Advisory Committee has been renewed for a two-year period beginning July 22, 2005.

The Committee will provide advice to the Director, Office of Science, on long-range plans, priorities, and strategies for advancing plasma science, fusion science and fusion technology—the knowledge base needed for an economically and environmentally attractive fusion energy source. The Secretary has determined that the renewal of the Fusion Energy Sciences Advisory Committee is essential to the conduct of the Department's business and in the public interest in connection with the performance of duties imposed upon the Department of Energy by law. The Committee will continue to operate in accordance with the provisions of the Federal Advisory Committee Act, the Department of Energy Organization Act (Pub. L. 92-463), the General Services Administration Final Rule on Federal Advisory Committee Management, and other directives and instruction issued in implementation of those acts.

For Further Information Contact: Ms. Rachel Samuel at (202) 586-3279.

Issued in Washington, DC on July 22, 2005.
James N. Solit,
Advisory Committee Management Officer.

[FR Doc. 05-14929 Filed 7-27-05; 8:45 am]

BILLING CODE 6450-01-P